DEPARTMENT OF ENERGY

Federal Energy Regulatory Commission

[Docket No. IC22-10-000]

Commission Information Collection Activities (Ferc-606 and Ferc-607) Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on the currently approved information collection FERC-606, (Notification of Request for Federal Authorization and Requests for Further Information), and FERC-607, (Report on Decision or Action on Request for Federal Authorization).

DATES: Comments on the collection of information are due June 13, 2022.

ADDRESSES: You may submit your comments (identified by Docket No. IC22-10-000) by one of the following methods:

Electronic filing through http://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (including courier) delivery: Deliver to: Federal Energy Regulatory Commission, Office of the Secretary, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, telephone at (202) 502-8663.

SUPPLEMENTARY INFORMATION:

Title: FERC-606, Notification of Request for Federal Authorization and Requests for Further Information; FERC-607, Report on Decision or Action on Request for Federal Authorization.

OMB Control No.: 1902-0241.

Type of Request: Three-year extension of these information collection requirements for all collections described below with no changes to the current reporting requirements. Please note that each collection is distinct from the other.

Abstract: FERC-606 requires agencies and officials responsible for issuing, conditioning, or denying requests for federal authorizations necessary for a proposed natural gas project to report to the Commission regarding the status of an authorization request. This reporting requirement is intended to allow agencies to assist the Commission to make better informed decisions in establishing due dates for agencies' decisions.

FERC-607 requires agencies or officials to submit to the Commission a copy of a decision or action on a request for federal authorization and an accompanying index to the documents and materials relied on in reaching a conclusion.

The information collections can neither be discontinued nor collected less frequently because of statutory requirements. The consequences of not collecting this information are that the Commission would be unable to fulfill its statutory mandate under the Energy Policy Act of 2005 to:

• Establish a schedule for agencies to review requests for federal authorizations required for a project, and

• Compile a record of each agency's decision, together with the record of the Commission's decision, to serve as a consolidated record for the purpose of appeal or review, including judicial review.

Type of Respondent: Agencies with federal authorization responsibilities.

Estimate of Annual Burden: ¹ The Commission estimates the annual public reporting burden ² and cost ³ (rounded) for the information collection as follows:

¹ Burden is defined as the total time, effort, or financial resources expended by persons to generate, maintain, retain, or disclose or provide information to or for a federal agency. For further explanation of what is included in the information collection burden, refer to 5 CFR 1320.3.

² Annual public reporting burden based on respondents over the last three-year period.

³ The estimates for cost per response are derived using the formula: Average Burden Hours per Response * 87.00 per hour = Average Cost per Response. The hourly cost figure comes from the FERC average salary plus benefits of $180,703 per year (or $87.00/hour). These estimates were updated in May 2021. This figure is being used because the staff thinks industry is similarly situated in terms of average hourly cost.

FERC-606 (Notification of Request for Federal Authorization and Requests for Further Information), and FERC-607 (Report on Decision or Action on Request for Federal Authorization)
| Number of respondents | Annual number of responses per respondent | Total number of responses | Average burden hours & cost per response | Total annual burden hours & total annual cost | Cost per respondent ($)
| (1) | (2) | (1) * (2) = (3) | (4) | (3) * (4) = (5) | (5) ÷ (1)
FERC-606 | 1 | 1 | 1 | 4 hrs.; $348 | 4 hrs.; $348 | $348
FERC-607 | 1 | 1 | 1 | 1 hr.; $87 | 1 hr.; $87 | 87
Total | 2 |  | 2 |  | 5 hrs.; $435 |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: April 5, 2022.
Kimberly D. Bose,
Secretary.

[FR Doc. 2022-07735 Filed 4-11-22; 8:45 am]

BILLING CODE 6717-01-P